DEPARTMENT OF THE INTERIOR

National Park Service

Cape Cod National Seashore; South Wellfleet, Massachusetts; Cape Cod National Seashore Advisory Commission; Two Hundredth Sixty Second Notice of Meeting

Notice is hereby given in accordance with the Federal Advisory Committee Act (Pub. L. 92-463, 86 Stat. 770, 5 U.S.C. App. 1, Section 10), that a meeting of the Cape Cod National Seashore Advisory Commission will be held on September 24, 2007.

The Commission was reestablished pursuant to Public Law 87-126 as amended by Public Law 105-280. The purpose of the Commission is to consult with the Secretary of the Interior, or her designee, with respect to matters relating to the development of Cape Cod National Seashore, and with respect to carrying out the provisions of sections 4 and 5 of the Act establishing the Seashore.

The Commission members will meet at 1 p.m. in the meeting room at Headquarters, Marconi Station, Wellfleet, Massachusetts for the regular business meeting to discuss the following:

1. Adoption of Agenda

2. Approval of Minutes of Previous Meeting (May 21, 2007)

3. Reports of Officers

4. Reports of Subcommittees

5. Superintendent's Report

Update on Dune Shacks and Report

Land Acquisition Funds for the North of Highlands Campground.

Improved Properties/Town Bylaws

Wind Turbines/Cell Towers

Highlands Center Update

Atlantic Research Center Update

ORV's and Piping Plover Nesting Impact

Hunting EIS

Overwash Over at South Beach in Chatham.

Centennial Challenge

6. Old Business

7. New Business

8. Date and Agenda for Next Meeting

9. Public Comment and

10. Adjournment

The meeting is open to the public. It is expected that 15 persons will be able to attend the meeting in addition to Commission members.

Interested persons may make oral/written presentations to the Commission during the business meeting or file written statements. Such requests should be made to the park superintendent at least seven days prior to the meeting. Further information concerning the meeting may be obtained from the Superintendent, Cape Cod National Seashore, 99 Marconi Site Road, Wellfleet, MA 02667.

Dated: July 21, 2007.
George E. Price, Jr.,
Superintendent.

[FR Doc. E7-16418 Filed 8-20-07; 8:45 am]

BILLING CODE 4310-WV-P